DEPARTMENT OF LABOR

Pension and Welfare Benefits Administration

Agency Information Collection Activities; Announcement of OMB Approval; Corrected Notice Published in Full

AGENCY: Pension and Welfare Benefits Administration, Department of Labor.

ACTION: Notice.

SUMMARY: The Pension and Welfare Benefits Administration (PWBA) is announcing that a collection of information has been approved by the Office of Management and Budget (OMB) under the Paperwork Reduction Act of 1995 (PRA) for the Application for EFAST Electronic Signature and Codes for EFAST Transmitters and Software Developers (Form EFAST-1). This notice announces the OMB approval number and expiration date.

FOR FURTHER INFORMATION CONTACT: Address requests for copies of the information collection request (ICR) to Gerald B. Lindrew, U.S. Department of Labor, Pension and Welfare Benefits Administration, 200 Constitution Avenue, NW., Room N-5647, Washington, DC 20210. Telephone: (202) 219-4782. This is not a toll-free number.

SUPPLEMENTARY INFORMATION: On March 9, 2000, PWBA published a notice in the Federal Register (65 FR 12577) announcing its intent to request renewal of approval under the PRA for the Application for EFAST Electronic Signature and Codes for EFAST Transmitters and Software Developers (Form EFAST-1). On September 25, 2000, OMB renewed its approval of the ICR under OMB control number 1210-0117. The approval will expire on March 31, 2002.

PWBA previously published a notice in the Federal Register (65 FR 58822, October 2, 2000) announcing the control number and expiration date for OMB approval of EFAST-1. However, the expiration date indicated in that notice was incorrect. A subsequent Correction published on October 6, 2000 (65 FR 59877) also included an inadvertent error with respect to the expiration date.¹

¹ Incorrect dates printed in these notices were March 3, 2002 and March 31, 2000, respectively.

In order to clarify that the actual expiration date of OMB's approval of the Form EFAST-1 is March 31, 2002, PWBA is publishing this corrected notice in full.

Under 5 CFR 1320.5(b), an Agency may not conduct or sponsor, and a person is not required to respond to, a collection of information unless the collection displays a valid control number.

Dated: October 10, 2000.
Gerald B. Lindrew,
Deputy Director, Office of Policy and Research, Pension and Welfare Benefits Administration.

[FR Doc. 00-26491 Filed 10-13-00; 8:45 am]

BILLING CODE 4510-29-M